DEPARTMENT OF DEFENSE

Department of the Army, Corps of Engineers

Intent To Prepare a Draft Environmental Impact Statement (DEIS) for the Installation of a Terminal Groin Structure Along the Inlet Shoulder of the New River Inlet and the Placement of the Dredge Material for the Fillet Along Approximately 2,000 Linear Feet of Ocean Shoreline of North Topsail Beach in Onslow County, NC

AGENCY: Department of the Army, U.S. Army Corps of Engineers, DoD.

ACTION: Notice of intent.

SUMMARY: The U.S. Army Corps of Engineers (USACE), Wilmington District, Wilmington Regulatory Field Office has received a request for Department of the Army (DA) authorization, pursuant to Section 404 of the Clean Water Act and Section 10 of the Rivers and Harbor Act, from the Town of North Topsail Beach to construct a terminal groin and its associated oceanfront fillet placement along approximately 2,000 linear feet of oceanfront shoreline. Additionally, the installation of the terminal groin will be conjunction with the existing May 27, 2011, DA authorization that permitted the Town to relocate the New River Inlet ebb tide channel, conduct maintenance events within the channel, and perform a phased beach nourishment along approximately 11 miles of oceanfront shoreline. The DA authorization for the maintenance operation expires on December 31, 2041. The main purpose of adding the terminal groin is to provide additional shoreline protection of the Town's infrastructure, specifically along the northeastern end of island.

DATES: No comments are requested, so there are no dates applicable to this Notice of Intent.

ADDRESSES: Questions regarding this notice may be submitted to: U.S. Army Corps of Engineers, Wilmington District, Regulatory Division. ATTN: File Number: SAW-2016-02091, 69 Darlington Avenue, Wilmington, NC 28403 or mickey.t.sugg@usace.army.mil.

FOR FURTHER INFORMATION CONTACT: Questions about the proposed action and Draft EIS can be directed to Mr. Mickey Sugg, Chief, Wilmington Regulatory Field Office, at telephone (910) 251-4811; email mickey.t.sugg@usace.army.mil; or regular mail at (see ADDRESSES).

SUPPLEMENTARY INFORMATION:

1. Proposed Action. On May 27, 2011, the USACE granted DA authorization to the Town of North Topsail Beach to implement a shoreline protection project, which encompassed the relocation of the New River Inlet ebb tide channel and nourishment of approximately 11 miles of the Town's oceanfront shoreline. This authorization also allowed the Town to conduct channel maintenance dredging to maintain the ebb tide channel within a pre-determined location to improve shoreline protection along the eastern end of the island. The initial construction of the channel relocation was completed in January 2013, but no subsequent maintenance dredging has taken place. Upon the completion of the channel relocation, the Town re-evaluated the post-construction conditions and the project's performance and is currently seeking to supplement the existing inlet management project with the installation of a terminal groin to enhance the oceanfront protection along the most western end of the island.

The proposed plans for a terminal groin consist of constructing the structure along the eastern shoulder of the New River Inlet and building the groin's fillet (or oceanfront shoreline) with material dredged during an inlet channel maintenance event. The terminal groin would consist of a 2,021-ft-long sheet pile and rubble-mound structure with several distinct components, including a 345-ft-long sheet pile anchor section extending landward of the primary dune, an 894-ft-long sheet pile upland section extending seaward from the primary dune across the inlet/oceanfront dry beach, and a 782-ft-long rubble mound in-water section extending seaward of the MHW line. The anchor and upland sheet pile groin sections would have maximum crest elevations of +5 feet NAVD that are slightly lower than the natural beach berm elevation of +6 ft NAVD. The in-water rubble-mound section, consisting of 4- to 6-ft-diameter granite armor stone, would have a crest elevation of +5 feet NAVD, a crest width of 5 feet, and a base width of ~40 feet. Conventional land-based heavy equipment would be used to construct both the onshore and in-water groin sections. Construction of the onshore (anchor and upland) sections would involve excavating the groin footprint, installing sheet pile and armor stone scour aprons to design specifications, covering the completed structure with the original excavated material, and grading the work area to reestablish pre-construction beach profiles. Depending on the position of the shoreline, construction of the in-water groin section may require work from a temporary trestle, or an embankment, built out from the shoreline using existing beach material. It is anticipated that all of the stone for groin construction would be hauled in by trucks from the quarry site. Once the structure is in place, beach fill material would be placed southward of the terminal groin to construct the north end beach fill and groin fillet. The groin fillet would consist of a tapered fill section extending 2,000 feet southwest from the groin along the seaward margin of the +6-ft berm. Initial construction of the fillet and a projected four-year maintenance nourishment event would require ~310,000 cy of beach fill. Based on a four-year nourishment cycle, an estimated volume of ~2.35 million cubic yards of beach fill would be required over a total 30-year period.

2. Scoping Process. A local Public Notice was issued on March 15, 2021, announcing an initial scoping meeting (a Facebook Live event) and included a 30-day commenting period that ended on April 14, 2021. The scoping meeting was held on March 25, 2021, and all received comments were evaluated and considered in the preparation of the Draft EIS.

Additionally, the USACE will reinitiate consultation with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. Additionally, the USACE will coordinate the proposed project with the North Carolina Division of Water Quality (NCDWQ) to assess the potential water quality impacts pursuant to Section 401 of the Clean Water Act, and with the North Carolina Division of Coastal Management (NCDCM) to determine the projects consistency with the Coastal Zone Management Act. The USACE will closely work with NCDCM and NCDWQ in the development of the EIS to ensure the process complies with all State Environmental Policy Act (SEPA) requirements. It is the intention of both the USACE and the State of North Carolina to consolidate the NEPA and any required SEPA processes thereby eliminating duplication.

3. Alternatives. Several alternatives, including various borrow areas, are being considered for the proposed project. The following alternatives have determined to be reasonable options for the Town's proposal and each will be evaluated in the EIS: (1) No Action (Continuation of existing USACE-authorized Beach and Inlet Management), (2) Abandon and Retreat (No use of existing USACE-authorized Beach and Inlet Management and/or other USACE permitting actions), (3) Beach Nourishment Only, (4) Beach Nourishment and Terminal Groin (No use of existing USACE-authorized Beach and Inlet Management), and (5) Beach Nourishment, Terminal Groin, and Use of existing USACE-authorized Inlet Management.

4. Availability of the Draft EIS. The Draft EIS is expected to be published and circulated the summer of 2023; and a public hearing will be held after the publication of the Draft EIS.

Daniel H. Hibner,
Brigadier General, U.S. Army, Commanding.

[FR Doc. 2023-03914 Filed 2-24-23; 8:45 am]

BILLING CODE 3720-58-P